DEPARTMENT OF TRANSPORTATION

Office of the Secretary

Notice of Applications for Certificates of Public Convenience and Necessity and Foreign Air Carrier Permits Filed Under Subpart B (Formerly Subpart Q) During the Week Ending October 5, 2013

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2013-0185.

Date Filed: October 3, 2013.

Due Date for Answers, Conforming Applications, or Motion to Modify Scope: October 24, 2013.

Description: Application of Ukraine International Airlines requesting a foreign air carrier permit to engage in scheduled air transportation of passengers, property and mail between any point or points in Ukraine, via intermediate points, and any point or points in the United States, and beyond; and on-demand charter air transportation of passengers, property and mail between any point or points in Ukraine and any point or points in the United States, as well as any point or points in the United States and any point or points in a third country or countries subject to pertinent national, bilateral and international rules and regulations.

Barbara J. Hairston,
Supervisory Dockets Officer, Docket Operations, Federal Register Liaison.

[FR Doc. 2013-24810 Filed 10-22-13; 8:45 am]

BILLING CODE 4910-9X-P